DEPARTMENT OF ENERGY

Federal Energy Regulatory Commission

[Docket Nos. CP14-554-000; CP15-16-000; CP15-17-000]

Florida Southeast Connection, LLC; Transcontinental Gas Pipe Line Company, LLC; Sabal Trail Transmission, LLC

Notice of Availability of the Draft Environmental Impact Statement for the Proposed Southeast Market Pipelines Project

The staff of the Federal Energy Regulatory Commission (FERC or Commission) has prepared a draft environmental impact statement (EIS) for the Hillabee Expansion, Sabal Trail, and Florida Southeast Connection (FSC) Projects as proposed by Transcontinental Gas Pipe Line Company, LLC (Transco), Sabal Trail Transmission, LLC (Sabal Trail), and Florida Southeast Connection, LLC (FSC), respectively, in the above-referenced dockets. These are separate, but connected, natural gas transmission pipeline projects collectively referred to as the Southeast Market Pipelines (SMP) Project. The applicants request authorization to construct and operate a total of about 685.5 miles of natural gas transmission pipeline and associated facilities, six new natural gas-fired compressor stations, and modify existing compressor stations in Alabama, Georgia, and Florida. The SMP Project would provide about 1.1 billion cubic feet per day of natural gas to meet growing demands by the electric generation, distribution, and end use markets in Florida and the southeast United States.

The draft EIS assesses the potential environmental effects of the construction and operation of the SMP Project in accordance with the requirements of the National Environmental Policy Act (NEPA). The FERC staff concludes that approval of the SMP Project would have some adverse environmental impacts; however, these impacts would be reduced to less-than-significant levels with the implementation of the applicants' proposed mitigation and the additional measures recommended in the draft EIS.

The U.S. Army Corps of Engineers (USACE) participated as a cooperating agency in the preparation of the draft EIS. The USACE has jurisdiction by law or special expertise with respect to resources potentially affected by the proposals and is participating in the NEPA analysis. The USACE has jurisdictional authority pursuant to section 404 of the Clean Water Act, which governs the discharge of dredged or fill material into waters of the United States; section 10 of the Rivers and Harbors Act, which regulates any work or structures that potentially affect the navigable capacity of navigable waters of the United States; and section 14 of the Rivers and Harbors Act which regulates the temporary occupation of water-related structures constructed by the United States. The USACE may adopt and use the EIS to support its review of the SMP Project. Although the cooperating agency provides input to the conclusions and recommendations presented in the draft EIS, the agency will present its own conclusions and recommendations in its Record of Decision for the project. A copy of the USACE's public notice of its receipt of applications from Transco, Sabal Trail, and FSC is enclosed with our draft EIS.

The draft EIS of the SMP Project addresses the potential environmental effects of the construction and operation of the following project facilities:

The Hillabee Expansion Project would include:

• Approximately 43.5 miles of new 42- and 48-inch-diameter natural gas pipeline loop ¹ in Alabama;

¹ A loop is a segment of pipe that is installed adjacent to an existing pipeline and connected to it at both ends. A loop generally allows more gas to move through the system.

• one new compressor station in Choctaw County, Alabama and modifications to three existing compressor stations in Dallas, Chilton, and Coosa Counties, Alabama; and

• installation of pig ² launchers/receivers and mainline valves (MLVs).

² A pig is an internal tool that can be used to clean and dry a pipeline and/or to inspect it for damage or corrosion.

The Sabal Trail Project would include:

• Approximately 515.5 miles of new natural gas pipeline in Alabama, Georgia, and Florida, including:

○ 480.9 miles of 36-inch-diameter mainline pipeline in Alabama, Georgia, and Florida;

○ the 21.5-mile-long, 24-inch-diameter Citrus County Line in Florida; and

○ the 13.1-mile-long, 36-inch-diameter Hunters Creek Line in Florida;

• five new compressor stations in Tallapoosa County, Alabama; Dougherty County, Georgia; and Suwannee, Marion, and Osceola Counties, Florida;

• subsequent modifications to two of the new compressor stations in Dougherty County, Georgia and Suwannee County, Florida; and

• installation of pig launchers/receivers, MLVs, and meter and regulating stations.

The FSC Project would include:

• Approximately 126.4 miles of new 30- and 36-inch-diameter natural gas pipeline in Florida; and

• installation of pig launchers/receivers, MLVs, and meter and regulating stations.

The FERC staff mailed copies of the draft EIS to federal, state, and local government representatives and agencies; elected officials; environmental and public interest groups; Native American tribes; potentially affected landowners and other interested individuals and groups; newspapers and libraries in the project area; and parties to this proceeding. Paper copy versions of this draft EIS were mailed to those specifically requesting them; all others received a CD version. In addition, the draft EIS is available for public viewing on the FERC's Web site (www.ferc.gov) using the eLibrary link. A limited number of copies are available for distribution and public inspection at:

Federal Energy Regulatory Commission, Public Reference Room, 888 First Street NE., Room 2A, Washington, DC 20426, (202) 502-8371.

Any person wishing to comment on the draft EIS may do so. To ensure consideration of your comments on the proposal in the final EIS, it is important that the Commission receive your comments by October 26, 2015.

For your convenience, there are four methods you can use to submit your comments to the Commission. In all instances, please reference the appropriate docket numbers (CP14-554-000 for the FSC Project; CP15-16-000 for the Hillabee Expansion Project; or CP15-17-000 for the Sabal Trail Project) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket numbers (CP14-554-000, CP15-16-000, and CP15-17-000) with your submission:

Kimberly D. Bose, Secretary, Federal Energy Regulatory Commission, 888 First Street NE., Room 1A, Washington, DC 20426.

(4) In lieu of sending written or electronic comments, the Commission invites you to attend one of the public meetings its staff will conduct in the SMP Project area to receive comments on the draft EIS. We encourage interested groups and individuals to attend and present oral comments on the draft EIS. The meetings are scheduled as follows:

Date and time | Location
Monday, September 28, 2015, 6:00-8:00 p.m. Eastern Daylight Time (EDT) | Albany Civic Center—Meeting Room, 100 West Oglethorpe, Albany, GA 31701.
Tuesday, September 29, 2015, 6:00-8:00 p.m. EDT | Colquitt County High School (Old High School), Withers Auditorium, 1800 Park Avenue, Moultrie, GA 31776.
Wednesday, September 30, 2015, 6:00-8:00 p.m. EDT | Holiday Inn Valdosta, Conference Center, Magnolia Ballroom, 1805 West Hill Ave., Valdosta, GA 31601.
Thursday, October 1, 2015, 6:00-8:00 p.m. EDT | Columbia High School—Auditorium, 469 SE Fighting Tiger Drive, Lake City, FL 32025.
Monday, October 5, 2015, 6:00-8:00 p.m. Central Daylight Time (CDT) | Central Alabama Community College, Betty Carol Graham Technology Center—Multi Purpose Room, 1675 Cherokee Road, Alexander City, AL 35010.
Monday, October 5, 2015, 6:00-8:00 p.m. EDT | Indian River State College, Williamson Conference Center Auditorium, 2229 Northwest 9th Avenue, Okeechobee, FL 34972.
Tuesday, October 6, 2015, 6:00-8:00 p.m. CDT | South Girard School Auditorium, 521 Fontaine Road, Phenix City, AL 36869.
Tuesday, October 6, 2015, 6:00-8:00 p.m. EDT | Dunnellon Middle School Auditorium, 21005 Chestnut Street, Dunnellon, FL 34431.
Wednesday, October 7, 2015, 6:00-8:00 p.m. EDT | Davenport School of the Arts Cafeteria, 4751 County Road 547, (Lee Jackson Highway), Davenport, FL 33837.
Thursday, October 8, 2015, 6:00-8:00 p.m. EDT | Bell High School Auditorium, 930 South Main Street, Bell, FL 32619.

We will begin our sign up of speakers at 5:30 p.m. The comment meetings will begin at 6:00 p.m. with a presentation by Commission staff on our environmental review process, after which speakers will be called. The meeting will end once all speakers have provided their comments or at 8:00 p.m., whichever comes first. Please note that there may be a time limit of 3 minutes to present comments, and speakers should structure their comments accordingly. If time limits are implemented, they will be strictly enforced to ensure that as many individuals as possible are given an opportunity to comment. The meetings are recorded by a stenographer to ensure comments are accurately recorded. Transcripts will be entered into the formal record of the Commission proceeding. It is important to note that verbal comments hold the same weight as written or electronically submitted comments.

Any person seeking to become a party to the proceeding must file a motion to intervene pursuant to Rule 214 of the Commission's Rules of Practice and Procedures (18 CFR part 385.214).³ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

³ See the previous discussion on the methods for filing comments.

Questions?

Additional information about the SMP Project is available from the Commission's Office of External Affairs, at (866) 208-FERC, or on the FERC Web site (www.ferc.gov) using the eLibrary link. Click on the eLibrary link, click on “General Search,” and enter the docket number excluding the last three digits in the Docket Number field (i.e., CP14-554, CP15-16, and CP15-17). Be sure you have selected an appropriate date range. For assistance, please contact FERC Online Support at FERCOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: September 4, 2015.
Kimberly D. Bose,
Secretary.

[FR Doc. 2015-22914 Filed 9-10-15; 8:45 am]

BILLING CODE 6717-01-P